FEDERAL COMMUNICATIONS COMMISSION

Open Commission Meeting, Thursday, June 22, 2017

June 15, 2017.

The Federal Communications Commission will hold an Open Meeting on the subjects listed below on Thursday, June 22, 2017 which is scheduled to commence at 10:30 a.m. in Room TW-C305, at 445 12th Street SW., Washington, DC.

Item No. | Bureau | Subject
1 | Public Safety & Homeland Security | Title: Amendment of part 11 of the Commission's Rules Regarding Emergency Alert System (PS Docket No. 15-94). Summary: The Commission will consider a Notice of Proposed Rulemaking that would amend the Commission's Emergency Alert System (EAS) rules to add a dedicated event code, “BLU,” for Blue Alerts, so that EAS alerts can deliver actionable information to the public when a law enforcement officer is killed, seriously injured, missing in connection with his or her official duties, or if there is an imminent and credible threat to a law enforcement officer.
2 | Public Safety & Homeland Security | Title: Procedures for Commission Review of State Opt-Out Requests from the FirstNet Radio Access Network (PS Docket No. 16-269). Summary: The Commission will consider a Report and Order that establishes the procedures and standards the Commission will use to review alternative plans submitted by states seeking to “opt-out” of the FirstNet network and to build their own Radio Access Networks that are interoperable with FirstNet.
3 | Consumer & Governmental Affairs | Title: Rules and Policies Regarding Calling Number Identification Service—Caller ID (CC Docket No. 91-281); Waiver of Federal Communications Commission Regulations at 47 CFR 64.1601(b) on Behalf of Jewish Community Centers. Summary: The Commission will consider a Notice of Proposed Rulemaking that would amend the Caller ID rules to allow disclosure of blocked Caller ID information to aid law enforcement in investigating threatening calls and continue the waiver of those rules that is currently in effect for Jewish Community Centers.
4 | International | Title: WorldVu Satellites Limited, d/b/a OneWeb (Call Sign S2963). Summary: The Commission will consider an Order and Declaratory Ruling that recommends granting OneWeb's request to be permitted to access the U.S. market using its proposed global non-geostationary satellite constellation for the provision of broadband communications services in the United States.
5 | Wireline Competition | Title: Improving Competitive Broadband Access to Multiple Tenant Environments (GN Docket No. 17-142). Summary: The Commission will consider a Notice of Inquiry that seeks comment on ways to facilitate greater consumer choice and enhance broadband deployment in multiple tenant environments such as apartment buildings, condominium buildings, shopping malls, or cooperatives. The Notice of Inquiry further seeks comment on the current state of broadband competition in such locations and whether additional Commission action in this area is warranted to eliminate or reduce barriers faced by broadband providers that seek to serve the occupants of multiple tenant environments.
6 | Media | Title: Electronic Annual Notice Declaratory Ruling (MB Docket No. 16-126). Summary: The Commission will consider a Declaratory Ruling which would clarify that the “written information” that cable operators must provide to their subscribers via annual notices pursuant to section 76.1602(b) of the Commission's rules may be provided via e-mail.
7 | Wireline Competition | Title: Modernization of Payphone Compensation Rules (WC Docket No. 17-141); Implementation of the Pay Telephone Reclassification and Compensation Provisions of the Telecommunications Act of 1996 (CC Docket No. 96-128); 2016 Biennial Review of Telecommunications Regulations (WC Docket No. 16-132). Summary: The Commission will consider a Notice of Proposed Rulemaking and Order that (1) proposes to eliminate the requirement that carriers that complete payphone calls conduct an annual audit of their payphone call tracking systems and file an associated annual audit report with the Commission, and (2) waives upcoming annual audit and associated reporting requirements.
8 | Enforcement | Title: Enforcement Bureau Action. Summary: The Commission will consider an enforcement action.

* * * * *

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Marlene H. Dortch,
Secretary, Office of the Secretary.

[FR Doc. 2017-12961 Filed 6-20-17; 8:45 am]

BILLING CODE 6712-01-P